ENVIRONMENTAL PROTECTION AGENCY

[ER-FRL-9018-5]

Environmental Impact Statements; Notice of Availability

Responsible Agency: Office of Federal Activities, General Information (202) 564-7146 or http://www.epa.gov/compliance/nepa/

Weekly receipt of Environmental Impact Statements

Filed 12/08/2014 Through 12/12/2014

Pursuant to 40 CFR 1506.9.

Notice

Section 309(a) of the Clean Air Act requires that EPA make public its comments on EISs issued by other Federal agencies. EPA's comment letters on EISs are available at: http://www.epa.gov/compliance/nepa/eisdata.html.

EIS No. 20140358, Draft EIS, HUD, CA, Sunnydale-Velasco HOPE SF Master Plan Project, Comment Period Ends: 02/17/2015, Contact: Eugene Flannery 415-701-5598.

EIS No. 20140359, Draft Supplement, FHWA, DC, South Capitol Street, Comment Period Ends: 02/02/2015, Contact: Michael Hicks 202-219-3513.

EIS No. 20140360, Draft EIS, USFWS, TX, Southern Edwards Plateau Habitat Conservation Plan, Comment Period Ends: 03/fxsp0;20/2015, Contact: Vanessa Burge 505-248-6420.

EIS No. 20140361, Final EIS, USFS, CO, White River National Forest Oil and Gas Leasing, Review Period Ends: 02/10/ 2015, Contact: Sarah Hankens 970-625-6840.

EIS No. 20140362, Final EIS, USFS, VA, Revised Land and Resource Management Plan for the George Washington National Forest, Review Period Ends: 01/20/2015, Contact: Karen Overcash 540-265-5175.

EIS No. 20140363, Draft EIS, FHWA, MN, US Highway 53 from Virginia to Eveleth, Comment Period Ends: 02/02/2015, Contact: Philip Forst 651-291-6100.

EIS No. 20140364, Draft EIS, APHIS, 00, Feral Swine Damage Management: A National Approach, Comment Period Ends: 02/02/2015, Contact: Kimberly K. Wagner 608-837-2727.

EIS No. 20140365, Final EIS, USACE, TX, Dallas Floodway Project, Review Period Ends: 01/20/2015, Contact: Marcia Hackett 817-886-1373.

EIS No. 20140366, Final EIS, NPS, DC, Anacostia Park Wetlands and Resident Canada Goose Management Plan, Review Period Ends: 01/20/2015, Contact: Robert Mocko 202-690-5170.

EIS No. 20140367, Draft EIS, USFS, OR, Antelope Grazing Allotments, Comment Period Ends: 02/02/2015, Contact: Lucas Phillips 541-947-2151.

EIS No. 20140368, Draft EIS, BLM, OR, Land use Plan Amendments for the Boardman to Hemingway Transmission Line Project, Comment Period Ends: 03/19/2015, Contact: Tamara Gertsch 307-775-6115.

EIS No. 20140369, Final EIS, NOAA, CA, Cordell Bank and Gulf of the Farallones National Marine Sanctuaries Expansion, Review Period Ends: 01/20/2015, Contact: Helene Scalliet 301-713-7281.

EIS No. 20140370, Draft Supplement, USN, WA, Northwest Training and Testing, Comment Period Ends: 02/02/2015, Contact: John Mosher 360-257-3234.

EIS No. 20140371, Draft EIS, USACE, CA, South San Francisco Bay Shoreline Phase I, Comment Period Ends: 02/02/2015, Contact: William DeJager 415-503-6866.

EIS No. 20140372, Draft EIS, DOE, 00, Plains and Eastern Clean Line Transmission Project, Comment Period Ends: 02/02/2015, Contact: Jane Summerson 505-845-4091.

Amended Notices

EIS No. 20140306, Draft EIS, USACE, CA, River Islands at Lathrop, Phase 2B, Comment Period Ends: 01/23/2015, Contact: William Guthrie 916-557-5269.

Revision to the FR Notice Published 10/24/2014; Extending Comment Period from 12/08/2014 to 01/23/2015.

Dated: December 16, 2014.
Dawn Roberts
Management Analyst, NEPA Compliance Division, Office of Federal Activities.

[FR Doc. 2014-29784 Filed 12-18-14; 8:45 am]

BILLING CODE 6560-50-P